DEPARTMENT OF COMMERCE

National Oceanic and Atmospheric Administration

[I.D. 032006B]

Fisheries of the Exclusive Economic Zone Off Alaska; Application for an Exempted Fishing Permit

AGENCY: National Marine Fisheries Service (NMFS), National Oceanic and Atmospheric Administration (NOAA), Commerce.

ACTION: Notice of receipt of an application for an exempted fishing permit.

SUMMARY: This notice announces receipt of an application for an exempted fishing permit (EFP) from the Alaska Longline Fishermen's Association (ALFA). If granted, the EFP would support a project to develop hook-and-line, troll, and jig techniques specific to the harvest of several rockfish species in the Gulf of Alaska (GOA), Southeast Outside District (SEO). This project is intended to promote the objectives of the Fishery Management Plan for Groundfish of the GOA by improving utilization of the rockfish resources in the SEO. The project also would provide important biological information about rockfish in the SEO.

ADDRESSES: Copies of the EFP application and the environmental assessment (EA) are available by writing to Sue Salveson, Assistant Regional Administrator for Sustainable Fisheries, Alaska Region, NMFS, P.O. Box 21668, Juneau, AK 99802, Attn: Ellen Walsh. The EA also is available from the Alaska Region, NMFS website at http://www.fakr.noaa.gov/index/analyses/analyses.asp.

FOR FURTHER INFORMATION CONTACT: Jason Gasper, 907-586-7228 or jason.gasper@noaa.gov.

SUPPLEMENTARY INFORMATION: NMFS manages the domestic groundfish fisheries in the GOA under the Fishery Management Plan for Groundfish of the GOA (FMP). The North Pacific Fishery Management Council (Council) prepared the FMP under the Magnuson-Stevens Fishery Conservation and Management Act (Magnuson-Stevens Act). Regulations governing the groundfish fisheries of the GOA appear at 50 CFR parts 600 and 679. The FMP and the implementing regulations at § 679.6 and § 600.745(b) authorize issuance of EFPs to allow fishing that would otherwise be prohibited. Procedures for issuing EFPs are contained in the implementing regulations.

NMFS received an EFP application from the ALFA in February 2006. The proposed EFP would allow for the testing of unbaited artificial lures (shrimp flies) to target rockfish in the SEO. Prior to a ban on trawling in the SEO on March 23, 1998 (63 FR 8356, February 19,1998), trawl gear was used in the SEO to target the following rockfish species: Pacific Ocean perch (POP), pelagic shelf rockfish (PSR), and other slope rockfish (OSR). The goal of this project is to improve the utilization of rockfish species in the SEO using methods that are consistent with Magnuson-Stevens Act National Standard 1, which directs that conservation and management measures must achieve optimum yield from each fishery, and National Standard 5, which seeks to promote efficiency in the utilization of fishery resources.

This project has been developed in cooperation with scientists at the NMFS Alaska Fisheries Science Center (AFSC). The proposed EFP has the following three objectives: (1) collect demographic and growth information for rockfish species that have little baseline biological information; (2) document the fishing characteristics of a new type of gear (shrimp flies), including the calculation of bycatch rates for halibut, sablefish, and other non-target species; and (3) refine gear and fishing techniques to efficiently harvest POP, PSR, and OSR with minimal bycatch. The time period of the project is May 15, 2006, through May 15, 2009. Continuation of the project in 2007 and 2008 is contingent on approval from the AFSC.

The proposed EFP exempts the applicant from certain fishery closures and prohibited species catch (PSC) limits. The exemptions are necessary to allow the permit holder to efficiently conduct the proposed project while minimizing impacts to the SEO hook-and-line fishery. The EFP provides exemptions from (1) hook-and-line fishery closures under § 679.7(a)(2) due to reasons other than overfishing concerns; (2) PSC limits for halibut under the GOA annual harvest specifications (71 FR 10870, March 3, 2006) and § 679.21(d)(4)(iii)(C); and (3) maximum retainable amounts for rockfish fisheries under § 679.20(e); and (4) sablefish retention requirements at § 679.7(f)(8)(iii)(11). The total amount of groundfish allowed to be harvested is 189 metric tons (mt), including a 10 mt mortality limit on sablefish. Because sufficient total allowable catch (TAC) amounts are available in the SEO for the rockfish species likely to be taken during the project, all groundfish except sablefish will be deducted from the annual TAC amounts specified in the annual harvest specifications (71 FR 10870, March 3, 2006). Because sablefish is fully allocated in the hook-and-line fishery, and managed under the individual fishing quota (IFQ) program pursuant to § 679.40, no sablefish will be retained during the project nor counted against the annual sablefish TAC. Halibut mortality is limited to 2 mt.

Fishing contrary to notification of inseason actions, closures, or adjustments under §§ 679.20, 679.21, and 679.25 is prohibited by § 679.7(a)(2). The applicant would be exempt from this prohibition to allow the project to proceed without interruption. The PSC limit for halibut may be reached during the project time period, requiring the closure of the hook-and-line fisheries in accordance with § 679.25. Because the amounts of halibut bycatch in the hook-and-line Pacific cod fishery has caused the closure of all hook-and-line fisheries (except demersal shelf rockfish) GOA-wide in the spring of 1999, 2000, and 2001, and in the fall of 2003 and 2004, the closure of the hook-and-line fisheries in the GOA may occur. The halibut mortality during the project would not be counted against the PSC limit so that other hook-and-line fisheries will not be impacted by the project.

The proposed EFP allows the retention and sale of all groundfish species (except sablefish) taken while fishing under the EFP to offset some of the costs of the project. The applicant will be exempt from the maximum retainable amounts specified in Table 10 of 50 CFR part 679 for rockfish fisheries. Because demersal shelf rockfish (DSR) are managed by the State of Alaska, which has special provisions for the retention and sale of DSR, the EFP would not relieve the applicant from compliance with the State's DSR regulations at 5 Alaska Administrative Code 28.171. These regulations require full retention of DSR but limit the numbers of DSR that may be sold for revenue by the harvester.

Because the applicant will be required to discard all sablefish caught, the proposed permit exempts the applicant from the retention requirement of § 679.7(f)(11) for sablefish only. Under this regulation, all halibut and sablefish are required to be retained if a person on the vessel has IFQ available for halibut or sablefish for that class of vessel. Recruiting qualified individuals for the project could be difficult if the IFQ retention requirement is applied for sablefish because the project does not provide an efficient use of sablefish IFQ. Because qualified participants are likely to be sablefish IFQ holders who would not want to use their IFQ during the project, the applicant is exempted from the sablefish retention requirements. Furthermore, the primary gear used in the EFP will be troll and jig gear, neither of which is legal gear for the harvest of sablefish in the SEO. The proposed EFP requires that all sablefish caught be returned to the sea with minimal injury. Halibut catch would not be exempt from § 679.7(f)(11) and would be subject to all applicable Federal regulations.

All fishing under the proposed EFP would stop if the groundfish or halibut mortality limits in the EFP are reached. The Regional Administrator may modify the EFP to allow continuation of the project after consideration of the following factors: (1) the present amount of harvest of groundfish species by the groundfish fisheries compared to the annual TACs, (2) the progress of the project to date, and (3) the potential impacts of any modification of the EFP.

In accordance with § 679.6, NMFS has determined that the proposal warrants further consideration and has initiated consultation with the Council by forwarding the application to the Council. The Council will consider the EFP application during its April 3-11, 2006 meeting. The applicant has been invited to appear in support of the application. Interested persons may comment on the application at the Council meeting during public testimony. Information regarding the April 2006 Council meeting is available at the Council's website at http://www.fakr.noaa.gov/npfmc/council.htm.

Copies of the application and EA are available for review from NMFS (see ADDRESSES).

Authority: 16 U.S.C. 1801 et seq.

Dated: March 20, 2006.
Alan D. Risenhoover,
Acting Director, Office of Sustainable Fisheries, National Marine Fisheries Service.

[FR Doc. E6-4205 Filed 3-22-06; 8:45 am]

BILLING CODE 3510-22-S